LIBRARY OF CONGRESS

Copyright Office

[Docket No. RM 2010-10]

Section 302 Report

AGENCY: Copyright Office, Library of Congress.

ACTION: Notice of inquiry: Extension of comments and reply comments period.

SUMMARY: In Section 302 of the Satellite Television Extension and Localism Act (“STELA”), Congress directed the Copyright Office (“Office”) to prepare a report addressing possible mechanisms, methods, and recommendations for phasing out the statutory licensing requirements set forth in Sections 111, 119, and 122 of the Copyright Act. The Office published a Notice of Inquiry (“NOI”) in the Federal Register on March 3, 2011, seeking comment on issues related to Section 302. (76 FR 11816). This notice is extending the time in which comments and reply comments can be filed in this proceeding.

DATES: Comments originally due on April 18, 2011, are now due no later than April 25, 2011. Reply comments originally due on May 18, 2011, are now due no later than May 25, 2011.

ADDRESSES: All comments and reply comments shall be submitted electronically. A comment page containing a comment form is posted on the Copyright Office Web site at http://www.copyright.gov/docs/section302. The Web site interface requires submitters to complete a form specifying name and organization, as applicable, and to upload comments as an attachment via a browser button. To meet accessibility standards, all comments must be uploaded in a single file in either the Adobe Portable Document File (PDF) format that contains searchable, accessible text (not an image); Microsoft Word; WordPerfect; Rich Text Format (RTF); or ASCII text file format (not a scanned document). The maximum file size is 6 megabytes (MB). The name of the submitter and organization should appear on both the form and the face of the comments. All comments will be posted publicly on the Copyright Office Web site exactly as they are received, along with names and organizations. If electronic submission of comments is not feasible, please contact the Copyright Office at (202) 707-0796 for special instructions.

FOR FURTHER INFORMATION CONTACT: Ben Golant, Assistant General Counsel, and Tanya M. Sandros, Deputy General Counsel, Copyright GC/I&R, P.O. Box 70400, Southwest Station, Washington, DC 20024. Telephone: (202) 707-8380. Telefax: (202) 707-8366 or by electronic mail at bgol@loc.gov.

SUPPLEMENTARY INFORMATION:

I. Background

On May 27, 2010, the President signed the Satellite Television Extension and Localism Act of 2010. See Public Law 111-175, 124 Stat. 1218 (2010). The legislation extended the term of the Section 119 license for another five years, updated the statutory license structures to account for changes resulting from the nationwide transition to digital television, and revised the Section 111 and Section 122 licenses in several other respects. In addition, STELA instructed the Copyright Office, the Government Accountability Office (“GAO”) and the FCC to conduct studies and report findings to Congress on different structural and regulatory aspects of the broadcast signal carriage marketplace in the United States. Section 302 of STELA, entitled “Report on Market Based Alternatives to Statutory Licensing,” charges the Copyright Office with the following:

Not later than 18 months after the date of the enactment of this Act, and after consultation with the Federal Communications Commission, the Register of Copyrights shall submit to the appropriate Congressional committees a report containing:

(1) Proposed mechanisms, methods, and recommendations on how to implement a phase-out of the statutory licensing requirements set forth in sections 111, 119, and 122 of title 17, United States Code, by making such sections inapplicable to the secondary transmission of a performance or display of a work embodied in a primary transmission of a broadcast station that is authorized to license the same secondary transmission directly with respect to all of the performances and displays embodied in such primary transmission;

(2) any recommendations for alternative means to implement a timely and effective phase-out of the statutory licensing requirements set forth in sections 111, 119, and 122 of title 17, United States Code; and

(3) any recommendations for legislative or administrative actions as may be appropriate to achieve such a phase-out.

In response to these directives, the Office published a Notice of Inquiry (“NOI”) in the Federal Register seeking comments and information from the public on several issues that are central to the scope and operation of Section 302 and critical to the Office's analysis of the legal and business landscapes. 79 FR 11816 (March 3, 2011).

II. Notice of Extension of Time

On April 6, 2011, the Copyright Office received a Motion for an Extension of Time to file comments and reply comments in this proceeding from the National Association of Broadcasters (“NAB”). It requests that the Copyright Office grant a seven-day extension of the deadlines for all interested parties to submit comments and reply comments in response to the Notice of Inquiry. Noting that comments are currently due on April 18, 2011 and reply comments are due on May 18, 2011, NAB respectfully requests an extension of these deadlines until April 25, 2011 and May 25, 2011, respectively.

NAB asserts that approval of its motion will enable it and many other concerned parties to help develop a more robust record in response to the NOI, while still permitting them to actively participate in a significant FCC proceeding with coinciding timelines.¹ It also notes that the current deadline immediately follows the 2011 NAB Show in Las Vegas, NV, which many concerned parties—including broadcasters, and their counsel—will be attending.² It adds that parties interested in responding to the Notice who also are involved in the NAB Show would lose a significant amount of preparation time and would have only two business days after the Show ends to finalize and file their Comments. NAB concludes that the requested extension will allow the Copyright Office to collect and consider a more complete legal and factual record and will therefore serve the public interest.

¹ Innovation in the Broadcast Television Bands: Allocations, Channel Sharing and Improvements to VHF, Notice of Proposed Rulemaking, ET Docket No. 10-235, 25 FCC Rcd 16498 (rel. Nov. 30, 2010) (reply comment are due April 18, 2011).

² The 2011 NAB Show begins on Saturday, April 9 and ends on Thursday, April 14. See 2011 NAB Show Web Site, available at: http://www.nabshow.com/2011/default.asp.

The Office finds that NAB has demonstrated good cause for an extension for filing of comments and reply comments and is granting its request. The Office and all interested parties will benefit from a thoughtful, thorough, and complete record in this proceeding. Accordingly, comments are now due on April 25, 2011, one week from the original date of April 18, 2011. In the event of a government wide shutdown, comments will be due the next business day after the Library reopens pursuant to 17 U.S.C. 703. Reply comments will be due on May 25, 2011, one week from the original date of May 18, 2011.

III. Conclusion

The Office hereby extends time for comments and reply comments from the public on the factual and policy matters related to the study mandated by Section 302 of the Satellite Television Extension and Localism Act of 2010. The new filing date for comments is April 25, 2011. The new filing date for reply comments is May 25, 2011.

Dated: April 7, 2011.
Maria A. Pallante,
Acting Register of Copyrights.

[FR Doc. 2011-8730 Filed 4-11-11; 8:45 am]

BILLING CODE 4110-30-P